DEPARTMENT OF THE INTERIOR

Bureau of Reclamation

[RR03510000, XXXR0680R1, RR171260120019400]

Notice of Intent To Prepare an Environmental Impact Statement, New Mexico Unit of the Central Arizona Project; Catron, Grant, and Hidalgo Counties, New Mexico

AGENCY: Bureau of Reclamation, Interior.

ACTION: Notice of intent; request for comments.

SUMMARY: The Bureau of Reclamation (Reclamation), as the lead Federal agency, and the New Mexico Interstate Stream Commission (ISC), as joint lead agency, intend to gather information necessary for preparing an Environmental Impact Statement (EIS) to evaluate the effects of the construction and operation of a New Mexico Unit (NM Unit) of the Central Arizona Project (CAP). Reclamation and the ISC will work with land owners that may be impacted by construction and operation of the NM Unit. Reclamation and the ISC will evaluate and disclose the potential environmental effects on these lands to determine consistency with any applicable land use plans or other guiding documents. This notice also opens public scoping to identify potential issues, concerns, and alternatives to be considered in the EIS.

DATES: Comments on the scope of the EIS are due 30 days after publication of this notice in the Federal Register.

Eight public scoping meetings will be held to solicit comments on the scope of the EIS and the issues and alternatives that should be analyzed. The dates and locations of the scoping meetings will be announced at least 15 days in advance through local media, newspapers, and the project website at: https://www.nmuniteis.com. At the time of this publication, the dates and locations of the scoping meetings will be on the project website.

ADDRESSES: Send written comments on the scope of the EIS to the Phoenix Area Office, Bureau of Reclamation (ATTN: NM Unit EIS), 6150 West Thunderbird Road, Glendale, Arizona 85306, or by email to NMUnitEIS@empsi.com. If emailing comments, please use “NM Unit EIS” as the subject of your email.

FOR FURTHER INFORMATION CONTACT: Mr. Sean Heath at (623) 773-6250, or by email at NMUnitEIS@empsi.com. Additional information is available online at https://www.nmuniteis.com.

SUPPLEMENTARY INFORMATION: Pursuant to the National Environmental Policy Act of 1969, as amended (NEPA), 42 U.S.C. 4231-4347; the Council on Environmental Quality's Regulations for Implementing the Procedural Provisions of NEPA, 40 CFR parts 1500 through 1508; and the Department of the Interior's regulations, 43 CFR part 46, Reclamation and the ISC, as joint lead agencies, intend to prepare an EIS on the NM Unit of the CAP. The Proposed Action would develop a NM Unit of the CAP to permit the consumptive use of Gila River water, diverted in accordance with the Consumptive Use and Forbearance Agreement (CUFA), and pursuant to the terms of the Arizona Water Settlements Act, Public Law 108-451 (AWSA).

Background

The Colorado River Basin Project Act of 1968, Public Law 90-537, 43 U.S.C. Ch. 32, as amended by the AWSA, authorizes the Secretary of the Interior (Secretary) to contract with water users in New Mexico for water from the Gila River, its tributaries and underground water sources. New Mexico may divert, in any period of 10 consecutive years, up to an annual average of 14,000 acre-feet, including a maximum of 4,000 acre-feet per year that may be diverted from the San Francisco River pursuant to the CUFA and the NM Unit Agreement. Use of this water under the AWSA is conditioned on satisfying a variety of laws and agreements related to its use in New Mexico and Arizona. These laws and agreements generally require that additional CAP water be delivered to the downstream users in Arizona to replace diversions in New Mexico under the AWSA and the CUFA.

A NM Unit is the infrastructure that would divert Gila River water in New Mexico for this purpose. The AWSA contains specific requirements for the Secretary regarding the possible construction, operation, and maintenance of a NM Unit on the Gila River.

The Secretary is authorized to design, build, operate, and maintain a NM Unit. A NM Unit is defined in the New Mexico Unit Agreement, which the Secretary executed on November 23, 2015. The Secretary is directed to carry out all necessary environmental compliance required by Federal law in implementing the CUFA and the New Mexico Unit Agreement. Reclamation and the ISC are the joint lead agencies for environmental compliance regarding the Unit pursuant to Section 212(h) of the AWSA.

Purpose and Need for Action

The purpose of the Proposed Action is to develop a NM Unit of the CAP to allow for consumptive use of water from the Gila River, its tributaries or underground water sources in southwestern New Mexico, diverted in accordance with the CUFA, and pursuant to the terms of the AWSA. The water developed via a NM Unit pursuant to the AWSA and the CUFA is for the benefit of the New Mexico CAP Entity.

The needs for the Proposed Action are as follows: (a) To develop water for delivery at the times, locations, and in quantities that will improve agricultural use within the Cliff-Gila, Virden, and/or San Francisco River valleys; and (b) to provide capability for future expansion for the beneficial purposes authorized by the Colorado River Basin Project Act of 1968 and the AWSA. The Proposed Action identified in this EIS is needed for agricultural use and does not include or preclude the independent development of subsequent projects to address these future needs; however, future projects involving water developed pursuant to the AWSA and the CUFA will be subject to all environmental compliance required by law.

Reclamation has concluded that an EIS is required for the proposed project, pursuant to the statutory requirements of the AWSA. The EIS will evaluate direct, indirect, and cumulative effects of the Proposed Action. In addition, the EIS will include a No Action alternative. For purposes of analysis and scoping, the No Action alternative represents the conditions that exist in the absence of the Federal action. It will provide the basis for comparison with the Proposed Action that includes the construction and operation of a NM Unit.

Proposed Action

The NM Unit would be a water diversion, storage, conveyance, and delivery system for agricultural use and to provide capability for future expansion for other beneficial purposes as authorized by the Colorado River Basin Project Act of 1968 and the AWSA. The study area for the EIS comprises portions of Catron, Grant, and Hidalgo counties in southwest New Mexico. The Project would divert AWSA water from the Gila River or its tributaries in New Mexico pursuant to the provisions of the AWSA and the CUFA, convey it for storage in off-stream storage sites in the Upper Gila Valley, along the San Francisco River and in the Virden Valley, and deliver it to the target water users. The Proposed Action would only use a portion of the 14,000 acre-feet allowed under the AWSA, while not precluding the future development of the full amount. The exact amounts of water that would be diverted are unknown at this time and will be determined as the Proposed Action is refined prior to the publication of the Draft EIS. The Proposed Action includes diverting, conveying, and storing other water rights, except for Globe Equity water rights. Possible components of the NM Unit include the following:

• A surface water diversion structure on the Gila River, in the Cliff-Gila Valley;

• Storage ponds in the Gila River floodplain and in a side drainage of the Cliff-Gila Valley, providing approximately 4,000 acre-feet of storage;

• Aquifer storage with recovery wells in the Cliff-Gila Valley;

• Gravity flow and pumped delivery of diverted water to storage facilities in the Cliff-Gila Valley;

• Pumping facilities associated with delivery of stored water in the Cliff-Gila Valley;

• Ditch improvements, including increased capacity and lining of about one-third of existing ditches in the Cliff-Gila Valley;

• Surface storage ponds in the Gila River floodplain or side channels, providing approximately 500 acre-feet of storage in the Virden Valley;

• Improvements to existing ditches for water conveyance in the Virden Valley;

• Pumping facilities associated with delivery of stored water in the Virden Valley;

• A surface water diversion structure on the San Francisco River, near Alma;

• Pumping facility for delivery of diverted water to the proposed reservoir near Alma;

• Conveyance (i.e., open ditch, box culvert, or pipeline) construction and improvements to existing ditches for water conveyance from a proposed diversion on the San Francisco River;

• Construction of an approximately 1,900 acre-foot off-stream reservoir near Alma, to store water diverted from the San Francisco River;

• Construction of water conveyance facilities from the reservoir to points of use.

Reclamation and the ISC will use the public scoping period, previous studies, and stakeholder input to fully identify the range of potentially significant issues, actions, alternatives, and impacts to be considered in the EIS.

Resource areas analyzed in the EIS may include air quality; cultural resources; geology and soils; hazardous substances and waste; land use; noise; socioeconomics; recreation; utilities and infrastructure; vegetation; water; wetlands and floodplains; fisheries and wildlife; and special status species. The range of issues and alternatives addressed in the EIS may be expanded or reduced based on comments received in response to this notice and at the public scoping meetings. Additional information is available by contacting the person listed in the FOR FURTHER INFORMATION CONTACT section of this notice.

Principles, Requirements, and Guidelines

As part of the environmental analysis process, the Federal Principles, Requirements, and Guidelines for Water and Land Related Resources Implementation Studies (PR&Gs) will be applied to examine the various technical, economic, hydrologic, recreation and ecosystem services considerations of each alternative, as well as a No Action alternative. The requirements of a PR&G analysis are unique to that process and are not included in the Council of Environmental Quality or Department of the Interior NEPA implementing regulations. Additional information regarding the PR&Gs is available online at the website provided in the FOR FURTHER INFORMATION CONTACT section of this notice.

Cooperating Agency Status

If, based on the Proposed Action, your agency believes it has special expertise or jurisdiction by law, as defined in 40 CFR 1508.15 and 1508.26, please respond within 30 days of the date of publication of this notice to the person listed in the FOR FURTHER INFORMATION CONTACT section of this notice.

Special Assistance for Public Scoping Meetings

If special assistance is required at the scoping meetings, please contact Mr. Sean Heath at (623) 773-6250, or email your assistance needs to NMUnitEIS@empsi.com, along with your name and telephone number. Please indicate your needs at least two weeks in advance of the meeting to enable Reclamation to secure the needed services. If a request cannot be honored, the requestor will be notified.

Public Disclosure

Before including your address, phone number, email address, or other personal identifying information in your comment, you should be aware that your entire comment—including your personal identifying information—may be made publicly available at any time. While you can ask us in your comment to withhold your personal identifying information from public review, we cannot guarantee that we will be able to do so.

Dated: June 7, 2018.
Terrance J. Fulp,
Regional Director, Lower Colorado Region.

[FR Doc. 2018-12575 Filed 6-11-18; 8:45 am]

BILLING CODE 4332-90-P